DEPARTMENT OF COMMERCE

National Oceanic and Atmospheric Administration

50 CFR Part 300

[Docket No. 070402076-7076-01; I.D. 022007B]

RIN 0648-AV23

Illegal, Unreported, or Unregulated Fishing

AGENCY: National Marine Fisheries Service (NMFS), National Oceanic and Atmospheric Administration (NOAA), Commerce.

ACTION: Final rule.

SUMMARY: NMFS publishes this final rule to satisfy the requirement in section 403 of the Magnuson-Stevens Fishery Conservation and Management Reauthorization Act of 2006 (MSRA) to publish a definition of the term “illegal, unreported, or unregulated (IUU)” fishing for purposes of the MSRA.

DATES: This final rule is effective April 12, 2007.

ADDRESSES: Dean Swanson, Chief, International Fisheries Affairs Division, Office of International Affairs, NMFS, 1315 East-West Highway, Silver Spring, MD 20910.

FOR FURTHER INFORMATION CONTACT: Dean Swanson at 301-713-2276, fax 301-713-2313.

SUPPLEMENTARY INFORMATION: Section 403 of the MSRA amends the High Seas Driftnet Fishing Moratorium Protection Act (Driftnet Moratorium Protection Act), 16 U.S.C. 1826d et seq., by adding, among other things, a new section 609 that addresses illegal, unreported, or unregulated fishing. Section 609 requires the Secretary of Commerce (Secretary) to identify, and list in a biennial report to Congress, a nation if its fishing vessels are engaged, or have been engaged during the preceding 2 years, in illegal, unreported, or unregulated fishing. Section 609 also provides for notification to and consultation with nations and an “IUU Certification Procedure” for determining if a nation or relevant international fishery management organization has taken specified action to address the IUU fishing activities. As an initial step, section 609(e)(2) requires the Secretary to “publish a definition of the term 'illegal, unreported, or unregulated fishing,' for purposes of this Act,” within 3 months after the date of enactment of MSRA, i.e., by April 12, 2007. Publication of this definition is the focus of this rulemaking. NMFS intends to conduct separate rulemaking, as needed, to implement other requirements such as the IUU certification procedure.

Section 609(e)(3) states that “the Secretary shall include in the definition, at a minimum—

(A) fishing activities that violate conservation and management measures required under an international fishery management agreement to which the United States is a party, including catch limits or quotas, capacity restrictions, and bycatch reduction requirements; (B) overfishing of fish stocks shared by the United States, for which there are no applicable international conservation or management measures or in areas with no applicable international fishery management organization or agreement, that has adverse impacts on such stocks; and (C) fishing activity that has an adverse impact on seamounts, hydrothermal vents, and cold water corals located beyond national jurisdiction, for which there are no applicable conservation or management measures or in areas with no applicable international fishery management organization or agreement.”

NMFS has decided to publish the definition exactly as set forth in section 403 of MSRA (new section 609(e)(3) of the Driftnet Moratorium Protection Act). As noted above, NMFS will initiate separate rulemaking for the IUU certification procedure, and if needed, may promulgate additional implementing regulations for the definition of “illegal, unreported, or unregulated” fishing as that procedure is developed.

Therefore, for purposes of the MSRA, this final rule defines “illegal, unreported, or unregulated” fishing as: (A) fishing activities that violate conservation and management measures required under an international fishery management agreement to which the United States is a party, including catch limits or quotas, capacity restrictions, and bycatch reduction requirements; (B) overfishing of fish stocks shared by the United States, for which there are no applicable international conservation or management measures or in areas with no applicable international fishery management organization or agreement, that has adverse impacts on such stocks; or (C) fishing activity that has an adverse impact on seamounts, hydrothermal vents, and cold water corals located beyond national jurisdiction, for which there are no applicable conservation or management measures or in areas with no applicable international fishery management organization or agreement.

Classification

This final rule is published under the authority of the MSRA.

This rule has been determined to be not significant for purposes of Executive Order 12866.

Pursuant to 5 U.S.C. 553(b)(B), there is good cause to waive prior notice and an opportunity for public comment on this action, as notice and comment is unnecessary. This rule publishes verbatim a definition that is already set forth in a statute, and NMFS has no authority to publish a definition that does not include the specific elements set forth in the statute. Thus, public comment would be unnecessary. For the same reason, the Assistant Administrator finds good cause to waive the 30-day delay in effectiveness pursuant to 5 U.S.C. 553(d)(1). This rule publishes verbatim a definition that is already set forth in a statute; thus, public comment would be unnecessary.

Because prior notice and opportunity for public comment are not required for this rule by 5 U.S.C. 553, or any other law, the analytical requirements of the Regulatory Flexibility Act, 5 U.S.C. 601 et seq., are inapplicable.

List of Subjects in 50 CFR Part 300

Fisheries; Fishing; Fishing vessels; Illegal, unreported, or unregulated fishing; Foreign relations.

Dated: April 10, 2007.
William T. Hogarth
Assistant Administrator for Fisheries, National Marine Fisheries Service.

For the reasons set out in the preamble, 50 CFR part 300 is amended as follows:

PART 300—INTERNATIONAL FISHERIES REGULATIONS

Subpart N—Definition of Illegal, Unreported, or Unregulated Fishing

1. Subpart N, consisting of §§ 300.200 and 300.201, is added to read as follows:

Subpart N—Definition of Illegal, Unreported, or Unregulated Fishing
Sec.
300.200 Purpose.
300.201 Definition.

Subpart N—Definition of Illegal, Unreported, or Unregulated Fishing

Authority: 16 U.S.C. 1826d et seq.

§ 300.200 Purpose.

The purpose of this subpart is to satisfy the requirement in section 403 of the Magnuson-Stevens Fishery Conservation and Management Reauthorization Act of 2006 (“Act”) to publish a definition of the term “Illegal, unreported, or unregulated fishing” for purposes of the Act.

§ 300.201 Definition.

Illegal, unreported, or unregulated fishing means:

(1) Fishing activities that violate conservation and management measures required under an international fishery management agreement to which the United States is a party, including catch limits or quotas, capacity restrictions, and bycatch reduction requirements;

(2) Overfishing of fish stocks shared by the United States, for which there are no applicable international conservation or management measures or in areas with no applicable international fishery management organization or agreement, that has adverse impacts on such stocks; or

(3) Fishing activity that has an adverse impact on seamounts, hydrothermal vents, and cold water corals located beyond national jurisdiction, for which there are no applicable conservation or management measures or in areas with no applicable international fishery management organization or agreement.

[FR Doc. 07-1830 Filed 4-10-07; 12:51 pm]

BILLING CODE 3510-22-S